DEPARTMENT OF THE INTERIOR

National Park Service

Death Valley National Park Advisory Commission; Notice of Meeting

Notice is hereby given in accordance with the Federal Advisory Commission Act that a meeting of the Death Valley National Park Advisory Commission will be held October 11 and 12, 2000 at the Furnace Creek Inn within Death Valley National Park.

The main agenda will include:

• Death Valley National Park's Revised Draft General Management Plan;

• Updates on Park Operational Plans;

• Appropriate field trips within Death Valley National Park, if time allows.

The Advisory Commission was established by PL #03-433 to provide for the advice on development and implementation of the General Management Plan.

Members of the Commission are Janice Allen, Kathy Davis, Michael Dorame, Mark Ellis, Pauline Esteves, Stanley Haye, Sue Hickman, Cal Jepson, Joan Lolmaugh, Gary O'Connor, Alan Peckham, Michael Prather, Wayne Schulz, and Gilbert Zimmerman.

This meeting is open to the public.

Richard H. Martin,
Superintendent, Death Valley National Park.

[FR Doc. 00-24500 Filed 9-22-00; 8:45 am]

BILLING CODE 4310-70-P